Title 3—

The President

Proclamation 7451 of June 15, 2001

Father's Day, 2001

By the President of the United States of America

A Proclamation

Americans celebrate Father's Day as a unique time to reflect on the importance of fathers and to honor their vital role in the lives of children. For those who have been blessed with our own families, this day also provides an opportunity to reaffirm our commitment to being the best possible fathers for our children.

Father's Day was originally the idea of Sonora Dodd, who wanted to honor her father, Civil War veteran Henry Jackson Smart. As Sonora's sole surviving parent following the death of her mother, Mr. Smart made great sacrifices for his daughter and raised her with courage, selflessness, and abiding love. To enable all Americans to participate in paying special tribute to their fathers, President Calvin Coolidge first recognized Father's Day in 1924.

During childhood, boys and girls look to their fathers for a sense of security, warmth, attention, patience, and understanding. As young people mature, their fathers contribute to their spiritual, emotional, physical, financial, and social well-being. In reaching adulthood, men and women alike are enriched immeasurably by the wisdom of their fathers as they pursue careers, start families, and take active roles in the community.

For boys and girls raised without a father in the home, the challenges can be great. Seventy-five percent of American children raised in a one-parent household will experience poverty before they turn 11 years old, compared to only 20 percent of children in families with two parents. Children in homes where the father is absent are more likely to be suspended from school or to drop out, be treated for an emotional or behavioral problem, become suicidal as adolescents, or become victims of child abuse or neglect.

As a society, we must support fathers in fulfilling their responsibilities to their families, which may include not only biological or adopted children, but also stepchildren or foster children. Fathers must be prepared to nurture and care for their sons and daughters, and to do so in the context of a strong and committed marriage. To promote responsible fatherhood, my Administration has proposed providing financial support to community and faith-based organizations that help fathers and to programs that strengthen marriage and promote successful parenting. We also propose funding to support the expansion of ongoing State and local fatherhood initiatives and helping community groups that try to provide young men with role models.

Our society must strive to produce a generation of men who are ready to become the best possible fathers. Let us set a good example for America's sons by valuing the responsibility and importance of fatherhood. Let us also honor and be thankful for the caring, decent, and hardworking fathers who make such a tremendous difference in the lives of their children and families.

NOW, THEREFORE, I, GEORGE W. BUSH, President of the United States of America, in accordance with a joint resolution of the Congress approved April 24, 1972 (36 U.S.C. 109), do hereby proclaim June 17, 2001, as Father's Day. I encourage all Americans to express love and respect for their fathers, as well as appreciation for the vital contributions of fathers to families and to society. I direct the appropriate officials of the Government to display the flag of the United States on all Government buildings on this day. I also call upon State and local governments and citizens to observe this day with appropriate programs, ceremonies, and activities.

IN WITNESS WHEREOF, I have hereunto set my hand this fifteenth day of June, in the year of our Lord two thousand one, and of the Independence of the United States of America the two hundred and twenty-fifth.

B

[FR Doc. 01-15571

Filed 6-18-01; 8:45 am]

Billing code 3195-01-P